SECURITIES AND EXCHANGE COMMISSION

[Release No. 34-81538; File No. SR-NYSEArca-2016-176]

Self-Regulatory Organizations; NYSE Arca, Inc.; Notice of Withdrawal of a Proposed Rule Change Relating to the Listing and Trading of Shares of the EtherIndex Ether Trust Under NYSE Arca Equities Rule 8.201

September 6, 2017.

On December 30, 2016, NYSE Arca, Inc. (“NYSE Arca”) filed with the Securities and Exchange Commission (“Commission”), pursuant to Section 19(b)(1) of the Securities Exchange Act of 1934 (“Exchange Act”) ¹ and Rule 19b-4 thereunder,² a proposed rule change to list and trade shares of the EtherIndex Ether Trust. The proposed rule change was published for comment in the Federal Register on January 23, 2017.³

¹ 15 U.S.C. 78s(b)(1).

² 17 CFR 240.19b-4.

³ See Securities Exchange Act Release No. 79792 (Jan. 13, 2017), 82 FR 7891 (Jan. 23, 2017).

On February 23, 2017, pursuant to Section 19(b)(2) of the Exchange Act,⁴ the Commission designated a longer period within which to approve the proposed rule change, disapprove the proposed rule change, or institute proceedings to determine whether to approve or disapprove the proposed rule change.⁵ On April 21, 2017, the Commission instituted proceedings to determine whether to approve or disapprove the proposed rule change.⁶ On July 17, 2017, the Commission designated a longer period for Commission action on the proposed rule change.⁷ The Commission received nine comment letters regarding the proposed rule change.⁸

⁴ 15 U.S.C. 78s(b)(2).

⁵ See Securities Exchange Act Release No. 80094 (Feb. 23, 2017), 82 FR 12268 (Mar. 1, 2017). The Commission designated April 23, 2017, as the date by which the Commission shall either approve or disapprove, or institute proceedings to determine whether to approve or disapprove, the proposed rule change.

⁶ See Securities Exchange Act Release No. 80501 (Apr. 21, 2017), 82 FR 19397 (Apr. 27, 2017).

⁷ See Securities Exchange Act Release No. 81155 (July 17, 2017), 82 FR 33938 (July 21, 2017). The Commission designated September 20, 2017, as the date by which the Commission shall either approve or disapprove the proposed rule change.

⁸ See Letters from Andrew Quentson (Apr. 26, 2017); Charles K. Massey, III, Venture Private Equity Investment (Apr. 26, 2017); Anita Desai (Apr. 29, 2017); Luc Jean (May 3, 2017); Tisho P. (May 10, 2017); Kevin McSheehan (May 14, 2017); Bruce Granger (May 16, 2017); Bruce Granger (May 16, 2017); Alen Lee (May 18, 2017). All comments on the proposed rule change are available on the Commission's Web site at: https://www.sec.gov/comments/sr-nysearca-2016-176/nysearca2016176.htm.

On September 1, 2017, NYSE Arca withdrew the proposed rule change (SR-NYSEArca-2016-176).

⁹ 17 CFR 200.30-3(a)(12).

For the Commission, by the Division of Trading and Markets, pursuant to delegated authority.⁹
Eduardo A. Aleman,
Assistant Secretary.

[FR Doc. 2017-19240 Filed 9-11-17; 8:45 am]

BILLING CODE 8011-01-P